DEPARTMENT OF DEFENSE

Office of the Secretary

Threat Reduction Advisory Committee; Notice of Federal Advisory Committee Meeting

AGENCY: Office of the Under Secretary of Defense (Acquisition, Technology and Logistics), Department of Defense.

ACTION: Federal advisory committee meeting notice.

SUMMARY: Under the provisions of the Federal Advisory Committee Act of 1972 (5 U.S.C., Appendix, as amended) and the Sunshine Act of 1976 (5 U.S.C. § 552b, as amended) the Department of Defense announces the following Federal advisory committee meeting of the Threat Reduction Advisory Committee (hereafter referred to as “the Committee”).

DATES: Tuesday, January 31, 2012, from 12:30 p.m. to 5:30 p.m.; and Wednesday, February 1, 2012, from 8:30 a.m. to 5:30 p.m.

ADDRESSES: Conference Room B-1, The Pentagon Conference Center (January 31) and Conference Room 3A912A, The Pentagon (February 1).

FOR FURTHER INFORMATION CONTACT: Mr. William Hostyn, GS-15, DoD, Defense Threat Reduction Agency/SP-ACP, 8725 John J. Kingman Road, MS 6201, Fort Belvoir, VA 22060-6201. Email: william.hostyn@dtra.mil. Phone: (703) 767-4453. Fax: (703) 767-4206.

SUPPLEMENTARY INFORMATION: Purpose of Meeting: To obtain, review and evaluate classified information related to the Committee's mission to advise on technology security, combating weapons of mass destruction (C-WMD), counter terrorism and counter proliferation.

Agenda: Beginning at 12:30 p.m., January 31, and through the end of the meeting on February 1, the committee will receive SECRET-level Combating Weapons of Mass Destruction (C-WMD) current operations briefings from the Department of Defense and the Intelligence Community. The committee will also hold classified discussions on C-WMD-related national security matters as they formulate their yearly work plan.

Meeting Accessibility: Pursuant to 5 U.S.C. 552b, as amended, and 41 CFR § 102-3.155, the Department of Defense has determined that the meeting shall be closed to the public. The Under Secretary of Defense for Acquisition, Technology and Logistics, in consultation with the DoD FACA Attorney, has determined in writing that this meeting be closed to the public because the discussions fall under the purview of Title 5, United States Code, Section § 552b(c)(1) and are inextricably intertwined with the unclassified material which cannot reasonably be segregated into separate discussions without disclosing secret material.

Committee's Designated Federal Officer or Point of Contact: Mr. William Hostyn, GS-15, DoD, Defense Threat Reduction Agency/SP-ACP, 8725 John J. Kingman Road, MS 6201, Fort Belvoir, VA 22060-6201. Email: william.hostyn@dtra.mil. Phone: (703) 767-4453. Fax: (703) 767-4206.

Written Statements: Pursuant to 41 CFR 102-3.105(j) and 102-3.140, the public or interested organizations may submit written statements to the membership of the Committee at any time or in response to the stated agenda of a planned meeting. Written statements should be submitted to the Committee's Designated Federal Officer; the Designated Federal Officer's contact information can be obtained from the GSA's FACA Database— https://www.fido.gov/facadatabase/public.asp.

Written statements that do not pertain to a scheduled meeting of the Committee may be submitted at any time. However, if individual comments pertain to a specific topic being discussed at a planned meeting then these statements must be submitted no later than five business days prior to the meeting in question. The Designated Federal Officer will review all submitted written statements and provide copies to all committee members.

Due to changing requirements beyond the control of the Threat Reduction Advisory Committee or its Designated Federal Officer, the Committee was unable to process the amended Federal Register notice for the January 31 through February 1, 2012 meeting of the Threat Reduction Advisory Committee as required by 41 CFR 102-3.150(a). Accordingly, the Acting Advisory Committee Management Officer for the Department of Defense, pursuant to 41 CFR 102-3.150(b), waives the 15-calendar day notification requirement.

Dated: January 13, 2012.
Aaron Siegel,
Alternate OSD Federal Register Liaison Officer, Department of Defense.

[FR Doc. 2012-982 Filed 1-18-12; 8:45 am]

BILLING CODE 5001-06-P